DEPARTMENT OF COMMERCE

National Oceanic and Atmospheric Administration

[RTID 0648-XB422]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Ecosystem and Ocean Planning (EOP) Committee will hold a meeting.

DATES: The meeting will be held on Monday, October 4, 2021, starting at 10 a.m. and continue through 12 p.m. See SUPPLEMENTARY INFORMATION for agenda details.

ADDRESSES: The meeting will take place over webinar using the Webex platform with a telephone-only connection option. Details on how to connect to the webinar by computer and by telephone will be available at: http://www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of the meeting is for the EOP Committee to review and provide feedback on an exempted fishing permit (EFP) application for an experimental purse seine fishery in federal waters for Atlantic thread herring. Thread herring are an ecosystem component species under the Council's Unmanaged Forage Omnibus Amendment and are subject to a 1,700 pound possession limit. The application requested the ability to catch up to 3,000 MT (6.6 million pounds) of thread herring in 2022 and would require an exemption to the Unmanaged Forage possession limit. The EOP Committee will consider input and recommendations developed by the Council's Scientific and Statistical Committee (SSC) at their September meeting regarding the EFP application and proposed data collection program. A summary of the SSC and EOP Committee meetings will be provided to the full Council at their October meeting.

A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Dated: September 13, 2021.
Tracey L. Thompson,
Acting Deputy Director, Office of Sustainable Fisheries, National Marine Fisheries Service.

[FR Doc. 2021-20086 Filed 9-16-21; 8:45 am]

BILLING CODE 3510-22-P